ENVIRONMENTAL PROTECTION AGENCY

[ER-FRL-8598-5]

Environmental Impact Statements; Notice of Availability

Responsible Agency: Office of Federal Activities, General Information (202) 564-1399 or http://www.epa.gov/compliance/nepa/.

Weekly receipt of Environmental Impact Statements

Filed 10/12/2009 Through 10/16/2009

Pursuant to 40 CFR 1506.9.

EIS No. 20090355, Final EIS, AFS, CA, Thom-Seider Vegetation Management and Fuels Reduction Project, To Respond to the Increasing Density and Fuels Hazard Evident along the Klamath River between Hamburg and Happy Camp, Klamath National Forest, Siskiyou County, CA, Wait Period Ends: 11/23/2009, Contact: Carol J. Sharp 530-493-1734.

EIS No. 20090356, Final EIS, AFS, MN, Border Project, Proposing Forest Vegetation Management and Related Transportation System Activities, LaCroix Ranger District, Superior National Forest, St. Louis County, MN, Wait Period Ends: 11/23/2009, Contact: Carol Booth 218-666-0020.

EIS No. 20090357, Final EIS, NPS, MO, Jefferson National Expansion Memorial, General Management Plan, Implementation, St. Louis, MO, Wait Period Ends: 11/23/2009, Contact: Tom Bradley 314-655-1600.

EIS No. 20090358, Final EIS, AFS, MT, Marsh and Tarhead Allotment Management Plans, Proposes to Authorize Grazing of Livestock under 10-year Permits, Lincoln Ranger District, Helena National Forest, Lewis and Clark Counties, MT, Wait Period Ends: 11/23/2009, Contact: Shawn Heinert 406-362-7013.

Amended Notices

EIS No. 20090254, Draft EIS, AFS, 00, Bridgeport Travel Management Project, To Provide the Primary Framework for Sustainable Management of Motor Vehicle Use on the Bridgeport Ranger District, Humboldt-Toiyabe National Forest, Mono County, CA and Lyon, Douglas, and Mineral Counties, NV, Comment Period Ends: 11/20/2009, Contact: Dave Lomis 775-884-8132.

Revision to FR Notice Published 07/31/2009: Extending Comment Period from 09/14/2009 to 11/20/2009.

Dated: October 20, 2009.
Ken Mittelholtz,
Deputy Director, NEPA Compliance Division, Office of Federal Activities.

[FR Doc. E9-25580 Filed 10-22-09; 8:45 am]

BILLING CODE 6560-50-P